SMALL BUSINESS ADMINISTRATION

[Disaster Declaration #14330 and #14331]

Oklahoma Disaster Number OK-00092

AGENCY: U.S. Small Business Administration.

ACTION: Amendment 2.

SUMMARY: This is an amendment of the Presidential declaration of a major disaster for the State of OKLAHOMA (FEMA-4222-DR), dated 05/26/2015.

Incident: Severe Storms, Tornadoes, Straight Line Winds, and Flooding.

Incident Period: 05/05/2015 and continuing.

Effective Date: 06/04/2015.

Physical Loan Application Deadline Date: 07/27/2015.

EIDL Loan Application Deadline Date: 02/26/2016

ADDRESSES: Submit completed loan applications to: U.S. Small Business Administration, Processing and Disbursement Center, 14925 Kingsport Road, Fort Worth, TX 76155.

FOR FURTHER INFORMATION CONTACT: M. Mitravich, Office of Disaster Assistance, U.S. Small Business Administration, 409 3rd Street SW., Suite 6050, Washington, DC 20416.

SUPPLEMENTARY INFORMATION: The notice of the Presidential disaster declaration for the State of OKLAHOMA, dated 05/26/2015 is hereby amended to include the following areas as adversely affected by the disaster:

Primary Counties: (Physical Damage and Economic Injury Loans): Atoka, Bryan, Comanche, Johnston, Kiowa, Le Flore, McClain, McCurtain, Pittsburg, Pottawatomie.

Contiguous Counties: (Economic Injury Loans Only):

Oklahoma: Beckham, Carter, Choctaw, Coal, Cotton, Greer, Haskell, Hughes, Jackson, Latimer, Marshall, McIntosh, Murray, Okfuskee, Pontotoc, Pushmataha, Seminole, Sequoyah, Tillman, Washita.

Arkansas: Little River, Polk, Scott, Sebastian, Sevier.

Texas: Bowie, Fannin, Grayson, Lamar, Red River.

All other information in the original declaration remains unchanged.

(Catalog of Federal Domestic Assistance Numbers 59002 and 59008)

Alan E. Escobar,
Acting Associate Administrator for Disaster Assistance.

[FR Doc. 2015-14318 Filed 6-10-15; 8:45 am]

BILLING CODE 8025-01-P